DEPARTMENT OF JUSTICE

Notice of Lodging Proposed Consent Decrees

In accordance with Departmental Policy, 28 CFR 50.7, notice is hereby given that two proposed consent decrees in United States v. Pala Band of Mission Indians, et al., (S.D. Cal.), 06-cv-2323-H (NLS), were lodged with the United States District Court for the Southern District of California on November 2, 2006.

These proposed consent decrees concern a complaint filed by the United States against the Pala Band of Mission Indians, Brown Bulk Transportation Co., Valley Material and Supply, Inc., and James A. Brown pursuant to section 309(b) and (d) of the Clean Water Act, 33 U.S.C. 1319(b) and (d), to obtain injunctive relief from and impose civil penalties against the Defendants for violating the Clean Water Act by discharging pollutants without a permit into waters of the United States. One proposed consent decree resolves the United States' allegations against the Pala Band of Mission Indians by requiring the Tribe to pay a civil penalty and to mitigate the environmental impacts by making a contribution to the Nature Conservancy. The second proposed consent decree resolves the United States' claims against Brown Bulk Transportation Co., Valley Material and Supply, Inc., and James A. Brown by requiring these Defendants to pay a civil penalty.

The Department of Justice will accept written comments relating to these proposed Consent decrees for thirty (30) days from the date of publication of this Notice. Please address comments to Pamela S. Tonglao, United States Department of Justice, Environment and Natural Resources Division, P.O. Box 23986, Washington, DC 20026-3986 and refer to United States v. Pala Band of Mission Indians, et al., (S.D. Cal.), 06-CV-2323-H (NLS), DJ #90-5-1-1-16816.

The proposed consent decrees may be viewed at http://www.usdoj.gov/enrd/open.html.

Stephen Samuels,
Assistant Chief, Environmental Defense Section, Environment & Natural Resources Division.

[FR Doc. 06-9278 Filed 11-17-06; 8:45 am]

BILLING CODE 4410-15-M